DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Fisheries Statistics Survey.

OMB Control Number: 0648-0052.

Form Number(s): None.

Type of Request: Regular submission.

Burden Hours: 2,175 (new); 46,920 (current plus new).

Number of Respondents: 16,630 (new); 741,305 (current plus new).

Average Hours per Response: Pretest, 30 minutes; fishing effort screening survey, 4 minutes; saltwater angler fishing diary, 30 minutes.

Needs and Uses: This requested revision will address the National Research Council's (NRC) concerns regarding potential telephone coverage error by testing the effectiveness of mail screening surveys for contacting anglers and collecting recreational fishing data. Like current telephone surveys, mail surveys will target licensed anglers (state license databases), as well as random households within coastal states (United States Post Office (USPS), Delivery Sequence File (DSF)). It is expected that mail survey frames will provide more complete coverage of angling populations than telephone survey frames because anglers are required to provide an address and/or present a valid driver's license when purchasing a saltwater fishing license, and the DSF can provide a complete frame of residential addresses within the United States. The proposed mail survey will run concurrently with ongoing telephone surveys for benchmarking purposes, as well as to allow direct comparisons between the two methodologies.

The NRC also identified potential problems with on-site surveys, which collect catch information at the conclusion of recreational fishing trips. Generally, these surveys are conducted by trained interviewers at publicly accessible fishing sites such as public piers, beaches, marinas and boat ramps. Because the coverage of onsite surveys is limited to public-access sites, estimates of total catch rely on assumptions about the behavior and success of anglers who access the water from private-access sites such as private residences, community beaches, marinas and docks, and private yacht clubs.

To address these additional concerns, respondents to the effort survey/screener questionnaire will be sent a survey packet for the angler diary survey. Combining the two objectives into a single data collection effort will help minimize respondent burden.

The collection of these data is necessary to fulfill statutory requirements of section 303 of the Magnuson-Stevens Fishery Conservation and Management Act (16 U.S.C. 1853 et seq.) as amended (MSA) and to comply with Executive Order 12962 on Recreational Fisheries. Section 303(a) of the MSA specifies data and analyses to be included in Fishery Management Plans (FMP), as well as pertinent data that shall be submitted to the Secretary of Commerce under the plan.

Affected Public: Individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 18, 2009.
Gwellnar Banks,
Management Analyst, Office of the Chief Information Officer.

[FR Doc. E9-11901 Filed 5-20-09; 8:45 am]

BILLING CODE 3510-22-P